PEACE CORPS

Information Collection Request; Submission for OMB Review

AGENCY: Peace Corps.

ACTION: 60-Day notice and request for comments.

SUMMARY: The Peace Corps will submit the following information collection request to the Office of Management and Budget (OMB) for approval. The purpose of this notice is to allow 60 days for public comment in the Federal Register preceding submission to OMB. We are conducting this process in accordance with the Paperwork Reduction Act of 1995 (44 U.S.C. Chapter 35).

DATES: Submit comments on or before July 2, 2012.

ADDRESSES: Comments should be addressed to Denora Miller, Freedom of Information Act Officer. Denora Miller can be contacted by telephone at 202-692-1236 or email at pcfr@peacecorps.gov. Email comments must be made in text and not in attachments.

FOR FURTHER INFORMATION CONTACT: Denora Miller at Peace Corps address above.

SUPPLEMENTARY INFORMATION: The Peace Corps' Press Office uses the Hometown News Release Form to collect information about a Peace Corps invitee's decision to serve and their local newspapers.

Method: The Peace Corps currently emails the Hometown News Release Form to invitees. The respondent returns the form by email. The Hometown News Release Form will be available through the Peace Corps' new volunteer delivery and support system. The new method will replace sending the form by email.

Title: Hometown News Release Form.

OMB Control Number: 0420-pending.

Type of information collection: Existing collection in use without an OMB control number.

Affected public: Individuals or households.

Respondents' obligation to reply: Voluntary.

Burden to the public:

(a) Estimated number of respondents | 1,000
(b) Frequency of response | one time
(c) Estimated average burden per response | 15 minutes
(d) Estimated total reporting burden | 250 hours
(e) Estimated annual cost to respondents | $0.00

General description of collection: This information is used to inform reporters from local and college newspapers, as well as radio and television stations about an invitee's decision to serve in the Peace Corps. It helps notify the community that their neighbor or classmate will be gone for two years and also helps Peace Corps recruit the next generation of Peace Corps volunteers.

Request For Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC on April 27, 2012.
Garry W. Stanberry,
Acting Associate Director, Management.

[FR Doc. 2012-10611 Filed 5-1-12; 8:45 am]

BILLING CODE 6051-01-P